Proclamation 8077 of October 30, 2006

National Diabetes Month, 2006

By the President of the United States of America

A Proclamation

National Diabetes Month is an opportunity to raise awareness of risk factors, prevention, and treatment of this serious disease.

Diabetes is a chronic illness affecting nearly 21 million Americans of all ages and backgrounds. It can cause blindness, nontraumatic amputations, kidney disease, and increased risk of heart disease and stroke. Though diabetes affects Americans of all racial and ethnic backgrounds, certain groups are at higher risk, including Hispanic, Asian/Pacific, African, and Native Americans. A small percentage of people with the disease suffer from Type 1 diabetes, once known as juvenile diabetes. These individuals are usually children or young adults whose bodies are unable to make insulin. Type 2 diabetes is more common and frequently occurs in individuals who have a family history of the disease and in people who are obese, inactive, or older. This form of diabetes stops a person's body from using insulin properly. By maintaining healthy eating habits and exercising daily, Americans can help prevent and reduce the effects of diabetes. Individuals should consult with their doctors and receive a preventive screening to help detect diabetes in its earliest stages.

My Administration has demonstrated a strong commitment to preventing and finding a cure for diabetes. We have supported funding for diabetes education programs and research initiatives, and this year the National Institutes of Health (NIH) estimates that more than $1 billion will be spent on diabetes research. The NIH and the Centers for Disease Control and Prevention are sponsoring the National Diabetes Education Program, which has helped inform millions of Americans about the risk factors of diabetes and the benefits of making healthy choices. By working together we can continue to make significant strides in the battle to beat this disease and provide a brighter future for many of our citizens.

As we observe National Diabetes Month, we recognize the medical professionals, researchers, and all those whose tireless efforts are making a positive difference in the lives of Americans suffering from this disease. This month we reaffirm our commitment to fighting diabetes, and through medical advances, preventive programs, and quality health care, we will help diabetes patients live longer, healthier, and happier lives.

NOW, THEREFORE, I, GEORGE W. BUSH, President of the United States of America, by virtue of the authority vested in me by the Constitution and laws of the United States, do hereby proclaim November 2006 as National Diabetes Month. I call upon all Americans to learn more about the risk factors and symptoms associated with diabetes and to observe this month with appropriate programs and activities.

IN WITNESS WHEREOF, I have hereunto set my hand this thirtieth day of October, in the year of our Lord two thousand six, and of the Independence of the United States of America the two hundred and thirty-first.

[FR Doc. 06-9062

Filed 11-1-06; 8:45 am]

Billing code 3195-01-P